DEPARTMENT OF JUSTICE

Notice of Lodging of Proposed Modification of Consent Decree Under the Comprehensive Environmental Response, Compensation, and Liability Act (“CERCLA”)

On August 26, 2025, the Department of Justice lodged a proposed modification of a consent decree with the United States District Court for the Eastern District of Pennsylvania in the lawsuit entitled United States of America and the Chemclene Site Defense Group v. Chemclene Corporation Inc. et al., Civil Action No. 99-cv-3715.

In July 1999, the United States filed a lawsuit under Section 107, 42 U.S.C. 9607, of the Comprehensive Environmental Response, Compensation, and Liability Act of 1980 (“CERCLA”), as amended, to recover costs incurred in response to the release or threatened release of hazardous substances at the Malvern TCE Superfund Site, located at and around 258 Phoenixville Pike in Malvern, East Whiteland and Charlestown Townships, Chester County, Pennsylvania. The United States also sought a declaratory judgment under CERCLA Section 113, 42 U.S.C. 9613, establishing Defendants' liability for future response costs at or in connection with the Malvern TCE Superfund Site.

In July 2006, the Eastern District Court for the District of Pennsylvania approved a Consent Decree resolving the United States' claims against the Settling Defendants, Chemclene Corporation Inc., Springridge Management Corporation, Inc., W. Lloyd Balderston, and the Estate of Ruth Balderston (the “Consent Decree”). To resolve their obligation to reimburse the United States for its CERCLA response costs at the Site, the Consent Decree required Settling Defendants to either pay the United States a lump sum of $1,417,200, plus interest, or to sell certain parcels of land and pay certain proceeds of the sales of those properties to the United States.

Settling Defendants have now entered into proposed agreements of sale with the East Whiteland Township to sell two properties for $1,100,000, based on the fair-market appraisal value of the properties. If the proposed modification to the Consent Decree is approved, the United States will receive $1,073,373 from the sale of the properties, in satisfaction of Settling Defendants' obligations to the United States.

The publication of this notice opens a period for public comment on the modification of the consent decree. Comments should be addressed to the Assistant Attorney General, Environment and Natural Resources Division, and should refer to United States of America and the Chemclene Site Defense Group v. Chemclene Corporation Inc. et al., D.J. Ref. No. 90-11-3-1731. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed modification to the Consent Decree may be examined and downloaded at this Justice Department website: https://www.justice.gov/enrd/consent-decrees. If you require assistance accessing the proposed modification to the Consent Decree, you may request assistance by email or by mail to the addresses provided above for submitting comments.

Jason A. Dunn,
Assistant Section Chief, Environmental Enforcement Section, Environment and Natural Resources Division.

[FR Doc. 2025-16591 Filed 8-28-25; 8:45 am]

BILLING CODE 4410-15-P